DEPARTMENT OF TRANSPORTATION

Maritime Administration

[USCG-2005-22611]

Neptune L.L.C., Liquefied Natural Gas Deepwater Port License Application; Final Application Public Hearings and Final Environmental Impact Statement

AGENCY: Maritime Administration, DOT.

ACTION: Notice of availability; notice of public hearings; request for comments.

SUMMARY: The Maritime Administration (MARAD) and the U.S. Coast Guard (USCG) announce the availability of the Final Environmental Impact Statement (FEIS) for the Neptune LNG LLC, Liquefied Natural Gas Deepwater Port license application. Also, public hearings will be held on matters relevant to the approval or denial of the license application. The application describes a project that would be located in Federal waters of Massachusetts Bay, in Block 125, approximately 8 miles southeast of Gloucester, MA and 22 miles northeast of Boston, MA. The Coast Guard and MARAD request public comments on the FEIS and application. Publication of this notice begins a 30 day comment period and provides information on how to participate in the process.

As a point of clarification, there is another deepwater port application by Northeast Gateway Energy Bridge, L.L.C. in the same vicinity. These applications are being processed and reviewed independently. The Northeast Gateway Energy Bridge, L.L.C. FEIS was noticed on an earlier date and is available on the Docket at USCG-2005-22219.

DATES: Public hearings will be held in Gloucester, MA on November 14, 2006 and in Salem, MA on November 15, 2006. Both hearings will be from 6 p.m. to 8 p.m. and will be preceded by an informational open house from 4:30 p.m. to 6 p.m. The public hearings may end later than the stated time, depending on the number of persons wishing to speak.

Material submitted in response to the request for comments on the FEIS and application must reach the Docket Management Facility by December 2, 2006 ending the 30 day public comment period.

Federal and State agencies must submit comments, recommended conditions for licensing, or letters of no objection by January 2, 2007 (45 days after the final public hearings). Also by January 2, 2007, the Governor of Massachusetts (the adjacent coastal state) may approve, disapprove, or notify MARAD of inconsistencies with State programs relating to environmental protection, land and water use, and coastal zone management for which MARAD may condition the license to make consistent.

MARAD must issue a record of decision (ROD) to approve, approve with conditions, or deny the DWP license application by February 13, 2007 (90 days after the public hearings).

For dates required by the Massachusetts Environmental Policy Act (MEPA) schedule, please see that section at the end of this notice.

ADDRESSES: The public hearing in Gloucester will be held at the Gloucester High School Auditorium, 32 Leslie O. Johnson Road, Gloucester, MA, telephone: 617-635-4100. The public hearing in Salem will be at the Salem State College Library, Charlotte Forten Hall, 360 Lafayette Street, Salem, MA, telephone: 978-542-7192.

The FEIS, the application, comments and associated documentation are available for viewing at the DOT's Docket Management System Web site: http://dms.dot.gov under docket number 22611. The FEIS is also available at public libraries in Beverly, Boston (Central Library), Gloucester, Manchester-by-the-Sea, Marblehead, and Salem.

Address docket submissions for USCG-2005-22611 to: Docket Management Facility, U.S. Department of Transportation , 400 Seventh Street, SW., Washington, DC 20590-0001.

The Docket Management Facility accepts hand-delivered submissions, and makes docket contents available for public inspection and copying at this address, in room PL-401, between 9 a.m. and 5 p.m., Monday through Friday, except Federal holidays. The Facility's telephone number is 202-366-9329, its fax number is 202-493-2251, and its Web site for electronic submissions or for electronic access to docket contents is http://dms.dot.gov.

FOR FURTHER INFORMATION CONTACT: Roddy Bachman, U.S. Coast Guard, telephone: 202-372-1451, e-mail: Roddy.C.Bachman@uscg.mil. If you have questions on viewing the docket, call Renee V. Wright, Program Manager, Docket Operations, telephone: 202-493-0402.

SUPPLEMENTARY INFORMATION:

Public Hearing and Open House

We invite you to learn about the proposed deepwater port at an informational open house, and to comment at a public hearing on the proposed action and the evaluation contained in the FEIS.

In order to allow everyone a chance to speak at the public hearings, we may limit speaker time, or extend the hearing hours, or both. You must identify yourself, and any organization you represent, by name. Your remarks will be recorded or transcribed for inclusion in the public docket.

You may submit written material at the public hearing, either in place of or in addition to speaking. Written material must include your name and address, and will be included in the public docket.

Public docket materials will be made available to the public on the Docket Management Facility's Docket Management System (DMS). See “Request for Comments” for information about DMS and your rights under the Privacy Act.

All of our public hearing locations are wheelchair-accessible. If you plan to attend an open house or public hearing, and need special assistance such as sign language interpretation or other reasonable accommodation, please notify the Coast Guard (see FOR FURTHER INFORMATION CONTACT) at least 3 business days in advance. Include your contact information as well as information about your specific needs.

Request for Comments

We request public comments or other relevant information on the FEIS and application. The public hearing is not the only opportunity you have to comment. In addition to or in place of attending a hearing, you can submit comments to the Docket Management Facility during the public comment period (see DATES). The Coast Guard and MARAD will consider all comments and materials received during the comment period.

Submissions should include:

• Docket number USCG-2005-22611.

• Your name and address.

• Your reasons for making each comment or for bringing information to our attention.

Submit comments or material using only one of the following methods:

• Electronic submission to DMS, http://dms.dot.gov.

• Fax, mail, or hand delivery to the Docket Management Facility (see ADDRESSES). Faxed or hand delivered submissions must be unbound, no larger than 8½ by 11 inches, and suitable for copying and electronic scanning. If you mail your submission and want to know when it reaches the Facility, include a stamped, self-addressed postcard or envelope.

Regardless of the method used for submitting comments or material, all submissions will be posted, without change, to the DMS Web site (http://dms.dot.gov), and will include any personal information you provide. Therefore, submitting this information makes it public. You may wish to read the Privacy Act notice that is available on the DMS Web site, or the Department of Transportation Privacy Act Statement that appeared in the Federal Register on April 11, 2000 (65 FR 19477).

You may view docket submissions at the Docket Management Facility (see ADDRESSES), or electronically on the DMS Web site.

Background

We published the Notice of Application for the proposed Neptune liquefied natural gas (LNG) deepwater port and information on regulations and statutes governing licensing in the Federal Register at 70 FR 58729, October 7, 2005; the Notice of Intent to Prepare an EIS for the proposed action was published at 70 FR 61151, October 20, 2005; and the Notice of Availability of the Draft EIS was published at 71 FR 32382, June 5, 2006. Information from the “Summary of the Application” from previous Federal Register notices is included below for your convenience.

Proposed Action and Alternatives

The proposed action requiring environmental review is the Federal licensing of the proposed deepwater port described in “Summary of the Application” below. The alternatives to licensing the proposed port are: (1) Licensing with conditions (including conditions designed to mitigate environmental impact), and (2) denying the application, which for purposes of environmental review is the “no-action” alternative. These alternatives are more fully discussed in the FEIS. The Coast Guard is the lead Federal agency for the preparation of the EIS. You can address any questions about the proposed action or the FEIS to the Coast Guard project manager identified in FOR FURTHER INFORMATION CONTACT.

Summary of the Application

Neptune LNG LLC proposes to own, construct, and operate a deepwater port, named Neptune, in the Federal waters of the Outer Continental Shelf on blocks NK 19-04 6525 and NK 19-04 6575, approximately 8 miles southeast of Gloucester, MA and 22 miles northeast of Boston, Massachusetts, in a water depth of approximately 250 feet. The Neptune deepwater port would be capable of mooring up to two approximately 140,000 cubic meter capacity LNG carriers by means of a submerged unloading buoy system.

The LNG carriers, or shuttle and regasification vessels (SRVs), would be equipped to store, transport and vaporize LNG, and to odorize and meter natural gas which would then be sent out by conventional subsea pipelines. Each SRV would have insulated storage tanks located within its hull. Each tank would be equipped with an in-tank pump to circulate and transfer LNG to the vaporization facilities located on the deck of the SRV. The proposed vaporization system would be a closed-loop water-glycol heat exchanger heated by steam from natural gas-fired boilers.

The major fixed components of the proposed deepwater port would be an unloading buoy system, eight mooring lines consisting of wire rope and chain connecting to anchor points on the seabed, eight suction pile anchor points, approximately 2.3 miles of natural gas flow line with flexible pipe risers and risers manifolds, and approximately 11 miles of 24-inch natural gas transmission line to connect to the existing Algonquin HubLine.

Neptune would have an average throughput capacity of 500 million standard cubic feet per day (MMscfd) and a peak capacity of approximately 750 MMscfd. Natural gas would be sent out by means of two flexible risers and subsea flowlines leading to a 24-inch gas transmission pipeline. The transmission pipeline would connect the deepwater port to the existing 30-inch Algonquin HubLine. No onshore components or storage facilities are associated with the proposed deepwater port application. Construction of the deepwater port components would be expected to take 36 months, with a startup of commercial operations in late 2009. The deepwater port would be designed, constructed and operated in accordance with applicable codes and standards and would have an expected operating life of approximately 20 years.

U.S. Army Corps of Engineers Permits

Pipelines within the three-mile limit require an Army Corps of Engineers (USACE) permit under Section 404 of the Clean Water Act and Section 10 of the Rivers and Harbors Act. Structures such as the moorings and lateral pipelines beyond the three-mile limit require a Section 10 permit.

As required by their regulations, the USACE has maintained a permit file. The USACE New England District phone number is 978-318-8338 and their Web site is http://www.nae.usace.army.mil.

Comments sent to the USACE have been incorporated into the EIS; will continue to be incorporated into the DOT docket; and will continue to be considered in the licensing and USACE permitting decisions. The USACE, among others, is a cooperating agency; is assisting in the NEPA process as described in 40 CFR 1501.6., and has conducted joint public hearings with the Coast Guard and MARAD.

Massachusetts Environmental Policy Act (MEPA)

Through a Special Review Procedure established by the Massachusetts Executive Office of Environmental Affairs (EOEA), the USCG and the MEPA Office are conducting a coordinated NEPA/MEPA review allowing a single document to serve simultaneously as both the EIS under NEPA and the Environmental Impact Report (EIR) under MEPA. The Certificates establishing the Special Review Procedure and the Scope for the Draft Environmental Impact Report can be viewed at http://www.mass.gov/envir/mepa/secondlevelpages/recentdecisions.htm. The EIR will be published in the Environmental Monitor on November 8, 2006; ENF comments are due November 28, 2006; ENF decisions are due December 8, 2006; the Secretary of Environmental Affairs will accept written comments on the Environmental Impact Report through December 8, 2006; and the EIR decisions (Certificate) is due December 15, 2006. Comments may be submitted electronically, by mail, via FAX, or by hand delivery. Please note that comments submitted on MEPA documents are public records. The mailing address for comments is: Secretary Robert W. Golledge, Jr., EOEA, Attn: MEPA Office, Richard Bourre, EOEA No. 13473/13474, 100 Cambridge Street, Suite 900, Boston MA 02114.

Dated: October 30, 2006.
Joel C. Richard,
Secretary, Maritime Administration.

[FR Doc. E6-18496 Filed 11-1-06; 8:45 am]

BILLING CODE 4910-81-P